DEPARTMENT OF COMMERCE

International Trade Administration

[A-570-900]

Diamond Sawblades and Parts Thereof From the People's Republic of China: Final Results of Antidumping Duty Administrative Review; 2018-2019

AGENCY: Enforcement and Compliance, International Trade Administration, Department of Commerce.

SUMMARY: The Department of Commerce (Commerce) determines that diamond sawblades and parts thereof (diamond sawblades) from the People's Republic of China (China) were sold at less than normal value by certain exporters during the period of review (POR) November 1, 2018, through October 31, 2019.

DATES: Applicable August 20, 2021.

FOR FURTHER INFORMATION CONTACT: Bryan Hansen or Thomas Schauer, AD/CVD Operations, Office I, Enforcement and Compliance, International Trade Administration, U.S. Department of Commerce, 1401 Constitution Avenue NW, Washington, DC 20230; telephone: (202) 482-3683 or (202) 482-0410, respectively.

SUPPLEMENTARY INFORMATION:

Background

On March 19, 2021, Commerce published in the Federal Register the preliminary results of the 2018-2019 administrative review of the antidumping duty order on diamond sawblades and parts thereof from China.¹ We invited interested parties to comment on the Preliminary Results and we received case briefs from the petitioner, the Diamond Sawblades Manufacturers' Coalition, and Wuhan Wanbang Laser Diamond Tools Co., Ltd. (Wuhan Wanbang),² and rebuttal briefs from the petitioner and Chengdu Huifeng New Material Technology Co., Ltd. (Chengdu Huifeng).³ On June 11, 2021, Commerce extended the deadline for the final results by 60 days to no later than September 15, 2021.⁴

¹ See Diamond Sawblades and Parts Thereof from the People's Republic of China: Preliminary Results of Antidumping Duty Administrative Review, Preliminary Determination of No Shipments, and Rescission of Review in Part; 2018-2019, 86 FR 14873 (March 19, 2021) (Preliminary Results), and accompanying Preliminary Decision Memorandum.

² See Petitioner's Letter, “Diamond Sawblades and Parts Thereof from the People's Republic of China: DSMC's Case Brief,” dated April 22, 2021; see also Wuhan Wanbang's Letter, “Diamond Sawblades and Parts Thereof from the People's Republic of China: Submission of Wuhan Wanbang's Case Brief,” dated April 22, 2021.

³ See Petitioner's Letter, “Diamond Sawblades and Parts Thereof from the People's Republic of China: DSMC's Rebuttal Brief,” dated April 29, 2021; see also Chengdu Huifeng's Letter, “Diamond Sawblades and Parts Thereof from the People's Republic of China: Submission of Chengdu Huifeng's Rebuttal Case Brief,” dated April 29, 2021.

⁴ See Memorandum, “Diamond Sawblades and Parts Thereof from the People's Republic of China: Extension of Time Limit for Final Results of Antidumping Duty Administrative Review; 2018-2019,” dated June 11, 2021.

Scope of the Order

The products covered by the antidumping duty Order ⁵ are diamond sawblades. A full description of the scope of the Order is contained in the Issues and Decision Memorandum.⁶

⁵ See Diamond Sawblades and Parts Thereof from the People's Republic of China and the Republic of Korea: Antidumping Duty Orders, 74 FR 57145 (November 4, 2009) (Order).

⁶ See Memorandum, “Diamond Sawblades and Parts Thereof from the People's Republic of China: Decision Memorandum for the Final Results of the Antidumping Duty Administrative Review; 2018-2019,” dated concurrently with, and hereby adopted by, this notice (Issues and Decision Memorandum).

Analysis of Comments Received

All issues raised in the case and rebuttal briefs filed by interested parties in this review are addressed in the Issues and Decision Memorandum. A list of the issues that parties raised, and to which we responded in the Issues and Decision Memorandum, follows as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Final Determination of No Shipments

We preliminarily found that Bosun Tools Co., Ltd., Danyang Weiwang Tools Manufacturing Co., Ltd., and Weihai Xiangguang Mechanical Industrial Co., Ltd., which have been eligible for separate rates in previous segments of the proceeding and are subject to this review, did not have any shipments of subject merchandise during the POR.⁷ No party commented on the Preliminary Results regarding our no-shipments determination. Therefore, for these final results, we continue to find that these companies did not have any shipments of subject merchandise during the POR and will issue appropriate instructions to CBP based on these final results.

⁷ See Preliminary Results, 86 FR at 14874.

Changes Since the Preliminary Results

Based on a review of the record and comments received from interested parties regarding our Preliminary Results, and for the reasons explained in the Issues and Decision Memorandum, we did not make changes to the preliminary calculations of the weighted-average dumping margins for the mandatory respondents, Chengdu Huifeng and Wuhan Wanbang, and the margin assigned to the separate rate respondents.

Separate Rate for Non-Selected Companies

In the Preliminary Results, we found that evidence provided by Chengdu Huifeng, the Jiangsu Fengtai Single Entity,⁸ Wuhan Wanbang, and Zhejiang Wanli Tools Group Co., Ltd., supported finding an absence of both de jure and de facto government control, and, therefore, we preliminarily granted a separate rate to each of these companies/company groups.⁹ We received no comments since the issuance of the Preliminary Results regarding our determination that these four companies/company groups are eligible for a separate rate. As in the Preliminary Results, Commerce calculated rates for the mandatory respondents Chengdu Huifeng and Wuhan Wanbang that are zero, de minimis, or based entirely on facts available. Therefore, in accordance with section 735(c)(5)(B) of the Act and its prior practice, Commerce assigned a simple average of Chengdu Huifeng's calculated rate (i.e., 0.00 percent) and Wuhan Wanbang's AFA rate (i.e., 82.05 percent) as the separate rate for the non-examined separate rate exporters for these final results.¹⁰

⁸ The Jiangsu Fengtai Single Entity is comprised of Jiangsu Fengtai Diamond Tool Manufacturer Co., Ltd.; Jiangsu Fengtai Diamond Tools Co., Ltd.; and Jiangsu Fengtai Sawing Industry Co., Ltd. See Diamond Sawblades and Parts Thereof from the People's Republic of China: Final Results of Antidumping Duty Administrative Review; 2014-2015, 82 FR 26912, 26913, n. 5 (June 12, 2017).

⁹ See the “Separate Rates” section of the Preliminary Decision Memorandum.

¹⁰ For more details on our methodology in selecting a rate for a non-examined separate rate exporter, see the “Separate Rates” section of the Preliminary Decision Memorandum.

China-Wide Entity

As stated in the Preliminary Results, because no party requested a review of the China-wide entity in this review, the entity is not under review and the entity's rate is not subject to change (i.e., 82.05 percent).¹¹ Aside from the no-shipment and separate rate companies discussed above, Commerce considers all other companies for which a review was requested and which did not file a separate rate application to be part of the China-wide entity.¹²

¹¹ See Diamond Sawblades and Parts Thereof from the People's Republic of China; Final Results of Antidumping Duty Administrative Review; 2012-2013, 80 FR 32344 (June 8, 2015).

¹² See Initiation of Antidumping and Countervailing Duty Administrative Reviews, 84 FR 2159 (February 6, 2019) (“All firms listed below that wish to qualify for separate rate status in the administrative reviews involving NME countries must complete, as appropriate, either a separate rate application or certification, as described below.”); see also Appendix II for the list of companies that are subject to this administrative review and considered to be part of the China-wide entity.

Final Results of Administrative Review

As a result of this administrative review, Commerce determines that the following weighted-average dumping margins exist for the period November 1, 2018, through October 31, 2019:

Exporters | Weighted-average dumping margin (percent)
Chengdu Huifeng New Material Technology Co., Ltd | 0.00
Wuhan Wanbang Laser Diamond Tools Co., Ltd | 82.05
Separate Rate Applicable to the Following Non-Selected Companies:
Jiangsu Fengtai Single Entity | 41.03
Zhejiang Wanli Tools Group Co., Ltd | 41.03

Disclosure

Commerce intends to disclose the calculations performed for these final results within five days of any public announcement or, if there is no public announcement, within five days of the date of publication of this notice of final results in the Federal Register in accordance with 19 CFR 351.224(b).

Assessment Rates

Pursuant to section 751(a)(2)(A) of the Act and 19 CFR 351.212(b), Commerce has determined, and CBP shall assess, antidumping duties on all appropriate entries of subject merchandise in accordance with the final results of this review. Commerce intends to issue assessment instructions to CBP no earlier than 35 days after the date of publication of these final results of this review in the Federal Register. If a timely summons is filed at the U.S. Court of International Trade, the assessment instructions will direct CBP not to liquidate relevant entries until the time for parties to file a request for a statutory injunction has expired (i.e., within 90 days of publication).

Because the dumping margin for Chengdu Huifeng New Material Technology Co., Ltd. is zero, Commerce will instruct CBP to liquidate the appropriate entries without regard to antidumping duties.¹³ For Wuhan Wanbang Laser Diamond Tools Co., Ltd., we will instruct CBP to apply an antidumping duty assessment rate of 82.05 percent to all entries of subject merchandise that entered the United States during the POR. For all non-selected respondents that received a separate rate, we will instruct CBP to apply an antidumping duty assessment rate of 41.03 percent to all entries of subject merchandise that entered the United States during the POR. For the three companies that we determined had no reviewable entries of the subject merchandise in this review period, any suspended entries that entered under that exporter's case number (i.e., at that exporter's rate) will be liquidated at the China-wide rate, 82.05 percent. For all other companies, we will instruct CBP to apply the antidumping duty assessment rate of the China-wide entity to all entries of subject merchandise exported by these companies.¹⁴

¹³ See Antidumping Proceedings: Calculation of the Weighted-Average Dumping Margin and Assessment Rate in Certain Antidumping Duty Proceedings; Final Modification, 77 FR 8101, 8103 (February 14, 2012).

¹⁴ See Initiation Notice, 85 FR at 2160 (“All firms listed below that wish to qualify for separate rate status in the administrative reviews involving NME countries must complete, as appropriate, either a separate rate application or certification, as described below.”)

Cash Deposit Requirements

The following cash deposit requirements will be effective upon publication of the final results of this review for shipments of the subject merchandise from China entered, or withdrawn from warehouse, for consumption on or after the publication date, as provided by section 751(a)(2)(C) of the Act: (1) For subject merchandise exported by the companies listed above that have separate rates, the cash deposit rate will be the rate established in these final results of review for each exporter as listed above; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of the antidumping duties occurred and the subsequent assessment of doubled antidumping duties.

Notification Regarding Administrative Protective Order

This notice also serves as a reminder to parties subject to administrative protective order (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

Commerce is issuing and publishing this notice in accordance with sections 751(a)(1) and 777(i)(1) of the Act, and 19 CFR 351.221(b)(5).

Dated: August 16, 2021.
Christian Marsh,
Acting Assistant Secretary for Enforcement and Compliance.

Appendix I

List of Topics Discussed in the Issues and Decision Memorandum

I. Summary

II. Background

III. Scope of the Order

IV. Surrogate Country

V. Discussion of the Issues

Comment 1: Valuation of Diamond Input

Comment 2: Whether to Apply Total Adverse Facts Available to Chengdu Huifeng

Comment 3: Whether to Apply Total Adverse Facts Available to Wuhan Wanbang

VI. Recommendation

Appendix II

Companies that are subject to this administrative review and considered to be part of the China-wide entity are:

ASHINE Diamond Tools Co., Ltd.

Danyang City Ou Di Ma Tools Co., Ltd.

Danyang Hantronic Import & Export Co., Ltd.

Danyang Huachang Diamond Tools Manufacturing Co., Ltd.

Danyang Like Tools Manufacturing Co., Ltd.

Danyang NYCL Tools Manufacturing Co., Ltd.

Danyang Tsunda Diamond Tools Co., Ltd.

Guilin Tebon Superhard Material Co., Ltd.

Hangzhou Deer King Industrial and Trading Co., Ltd.

Hangzhou Kingburg Import & Export Co., Ltd.

Hebei XMF Tools Group Co., Ltd.

Henan Huanghe Whirlwind Co., Ltd.

Henan Huanghe Whirlwind International Co., Ltd.

Hong Kong Hao Xin International Group Limited

Hubei Changjiang Precision Engineering Materials Technology Co., Ltd.

Hubei Sheng Bai Rui Diamond Tools Co., Ltd.

Huzhou Gu's Import & Export Co., Ltd.

Jiangsu Huachang Diamond Tools Manufacturing Co., Ltd.

Jiangsu Inter-China Group Corporation

Jiangsu Youhe Tool Manufacturer Co., Ltd.

Orient Gain International Limited

Pantos Logistics (HK) Company Limited

Pujiang Talent Diamond Tools Co., Ltd.

Qingdao Hyosung Diamond Tools Co., Ltd.

Qingyuan Shangtai Diamond Tools Co., Ltd.

Qingdao Shinhan Diamond Industrial Co., Ltd.

Quanzhou Zhongzhi Diamond Tool Co., Ltd.

Rizhao Hein Saw Co., Ltd.

Saint-Gobain Abrasives (Shanghai) Co., Ltd.

Shanghai Jingquan Industrial Trade Co., Ltd.

Shanghai Starcraft Tools Co., Ltd.

Sino Tools Co., Ltd.

Wuhan Baiyi Diamond Tools Co., Ltd.

Wuhan Sadia Trading Co., Ltd.

Wuhan ZhaoHua Technology Co., Ltd.

Xiamen ZL Diamond Technology Co., Ltd.

ZL Diamond Technology Co., Ltd.

ZL Diamond Tools Co., Ltd.

[FR Doc. 2021-17888 Filed 8-19-21; 8:45 am]

BILLING CODE 3510-DS-P